NATIONAL AERONAUTICS AND SPACE ADMINISTRATION

[Notice (09-106)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: December 11, 2009.

FOR FURTHER INFORMATION CONTACT: Bryan A. Geurts, Patent Counsel, Goddard Space Flight Center, Mail Code 140.1, Greenbelt, MD 20771-0001; telephone (301) 286-7351; fax (301) 286-9502.

NASA Case No. GSC-15584-1: Systems, Computer-Implemented Methods, and Tangible Computer-Readable Storage Media for Wide-Field Interferometry;

NASA Case No. GSC-15583-1: Tunable Frequency-Stabilized Laser via Offset Sideband;

NASA Case No. GSC-15538-1: Compact Planar Microwave Blocking Filters;

NASA Case No. GSC-15678-1: Optimal Padding for the Two-Dimensional Fast Fourier Transform;

NASA Case No. GSC-15684-1: Discrete Fourier Transform (DFT) Analysis for Applications Using Iterative Transform Methods;

NASA Case No. GSC-15685-1: Sampling Theorem in Terms of the Bandwidth and Sampling Interval;

NASA Case No. GSC-15724-1: Passively Q-Switched Side Pumped Monolithic Ring Laser;

NASA Case No. GSC-15758-1: Hybrid Architecture Active Wavefront Sensing and Control System and Method;

NASA Case No. GSC-15552-1: High Field Superconducting Magnets;

NASA Case No. GSC-15716-1: Digital Radar Systems and Methods;

NASA Case No. GSC-15527-1: Methods of Determining Complete Sensor Requirements for Autonomous Mobility;

NASA Case No. GSC-15699-1: Low Temperature Radiometer;

NASA Case No. GSC-15655-1: Step Frequency Isar;

NASA Case No. GSC-15550-1: Method of Improving System Performance and Survivability Through Self-Sacrifice;

NASA Case No. GSC-15662-1: Systems and Methods for Mirror Mounting with Minimized Distortion;

NASA Case No. GSC-15693-1: Variable Sample Mapping Algorithm;

NASA Case No. GSC-15760-1: Radiation-Hardened Hybrid Processor;

NASA Case No. GSC-15771-1: High Precision Electric Gate for Time-Of-Flight Ion Mass Spectrometers.

Dated: December 4, 2009.
Richard W. Sherman,
Deputy General Counsel.

[FR Doc. E9-29491 Filed 12-10-09; 8:45 am]

BILLING CODE P